FEDERAL MEDIATION AND CONCILIATION SERVICE

Federal Mediation and Conciliation Service Internal Reorganization

AGENCY: Federal Mediation and Conciliation Service (FMCS).

ACTION: Notice of FMCS reorganization.

SUMMARY: The Federal Mediation and Conciliation Service (FMCS) is issuing this notice to inform the public that FMCS has performed a reorganization to optimize client services, internal communications, and agency resources.

DATES: This change to FMCS's organization is effective September 25, 2022.

FOR FURTHER INFORMATION CONTACT: Greg Goldstein, 202-606-8111, ggoldstein@fmcs.gov.

SUPPLEMENTARY INFORMATION: FMCS's reorganization, pursuant to the authority vested in the Director under 29 U.S.C. 172, included consolidating two regions consisting of eight district offices to six general regions as well as departmental realignments at the Agency's headquarters to improve the efficacy of the Agency's work. FMCS is working expeditiously to update affected sections of the Code of Federal Regulations that reflect the Agency's outdated organizational structure.

Dated: October 14, 2022.
Alisa Zimmerman,
Acting General Counsel.

[FR Doc. 2022-22727 Filed 10-19-22; 8:45 am]

BILLING CODE 6732-01-P